DEPARTMENT OF ENERGY

Federal Energy Regulatory Commission

Combined Notice of Filings

September 21, 2009.

Take notice that the Commission has received the following Natural Gas Pipeline Rate and Refund Report filings:

Docket Numbers: RP09-1043-000

Applicants: Equitrans, LP

Description: Equitrans submits Letter of transmittal with Appendices A through D.

Filed Date: 09/14/2009

Accession Number: 20090915-0064

Comment Date: 5:00 pm Eastern Time on Monday, September 28, 2009.

Docket Numbers: RP09-1043-001

Applicants: Equitrans, LP

Description: Equitrans, LP submits non-conforming service agreements.

Filed Date: 09/16/2009

Accession Number: 20090917-0001

Comment Date: 5:00 pm Eastern Time on Monday, September 28, 2009.

Docket Numbers: RP09-1048-000

Applicants: Discovery Gas Transmission LLC,

Description: Discovery Gas Transmission LLC submits Seventeenth Revised Sheet No 20 to FERC Gas Tariff, Original Volume No 1, to be effective 10/1/09.

Filed Date: 09/17/2009

Accession Number: 20090917-0075

Comment Date: 5:00 pm Eastern Time on Tuesday, September 29, 2009.

Docket Numbers: RP09-1049-000

Applicants: Black Marlin Pipeline Company

Description: Black Marlin Pipeline Company submits Eighteenth Revised Sheet No 4 to FERC Gas Tariff, First Revised Volume No 1, to be effective 10/1/09.

Filed Date: 09/17/2009

Accession Number: 20090917-0074

Comment Date: 5:00 pm Eastern Time on Tuesday, September 29, 2009.

Docket Numbers: RP09-1050-000

Applicants: Kinder Morgan Interstate Gas Trans. LLC

Description: Kinder Morgan Interstate Gas Transmission, LLC submits Second Revised Sheet 28 et al to FERC Gas Tariff, Fourth Revised Volume 1-A, to be effective 10/19/09.

Filed Date: 09/18/2009

Accession Number: 20090918-0109

Comment Date: 5:00 pm Eastern Time on Wednesday, September 30, 2009.

Docket Numbers: RP09-1051-000

Applicants: Texas Gas Transmission, LLC

Description: Texas Gas Transmission, LLC submits Fifth Revised Sheet 99A to FERC Gas Tariff, Third Revised Volume 1 to be effective 9/18/09.

Filed Date: 09/18/2009

Accession Number: 20090918-0110

Comment Date: 5:00 pm Eastern Time on Wednesday, September 30, 2009.

Docket Numbers: RP09-1052-000

Applicants: Dominion Transmission, Inc.

Description: Dominion Transmission, Inc. Refund Report.

Filed Date: 09/18/2009

Accession Number: 20090918-5068

Comment Date: 5:00 pm Eastern Time on Wednesday, September 30, 2009.

Docket Numbers: RP09-1053-000

Applicants: CenterPoint Energy Gas Transmission Company

Description: CenterPoint Energy Gas Transmission Company submits FERC Gas Tariff, Sixth Revised Volume 1 to be effective 11/1/09.

Filed Date: 09/18/2009

Accession Number: 20090918-0112

Comment Date: 5:00 pm Eastern Time on Wednesday, September 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-23350 Filed 9-25-09; 8:45 am]

BILLING CODE 6717-01-P